ENVIRONMENTAL PROTECTION AGENCY

40 CFR Parts 112 and 412

[FRL-6936-2]

National Pollutant Discharge Elimination System Permit Regulation and Effluent Limitations Guidelines and Standards for Concentrated Animal Feeding Operations—Proposed Revisions; Public Meetings

AGENCY: Environmental Protection Agency (EPA).

ACTION: Notice of public meetings.

SUMMARY: The Environmental Protection Agency hereby gives notice that it will conduct eight public meetings on new proposed regulations under the Clean Water Act for Concentrated Animal Feeding Operations (CAFOs). EPA Administrator Carol Browner signed these proposed regulations on December 15, 2000, and the Agency published the proposed regulations in the Federal Register on January 12, 2001, under the title National Pollutant Discharge Elimination System Permit Regulation and Effluent Limitations Guidelines and Standards for Concentrated Animal Feeding Operations.

The purpose of the meetings is to enhance public understanding of the proposed regulations for CAFOs. The meetings are not a mechanism for submitting formal comments on the proposal. The meetings will consist of a brief presentation by EPA officials on the proposed regulations followed by a question and answer session. Participants are encouraged to familiarize themselves with the basic aspects of the proposed regulations prior to the public meetings; each speaker's time will be limited so that all interested parties may have the opportunity to pose questions. Advance registration is not required.

DATES: See SUPPLEMENTARY INFORMATION section for meeting dates.

ADDRESSES: See SUPPLEMENTARY INFORMATION section for meeting addresses. Formal comments on the proposal should be submitted by mail to: Concentrated Animal Feeding Operation Proposed Rule Comment Clerk OW-00-27, Water Docket (MC4101), U.S. EPA, 1200 Pennsylvania Ave., NW., Washington DC 20460. Comments may also be submitted electronically to ow-docket@epa.gov. For more specifics about how to submit comments, please refer to the January 12 Federal Register announcement, available at http://www.epa.gov/owm/afos/rule.htm.

FOR FURTHER INFORMATION CONTACT: To obtain additional information about the meetings, please contact Nina Bonnelycke, U.S. EPA, 1200 Pennsylvania Ave., NW., 4203M, Washington, DC 20460. Questions may also be directed to Ms. Bonnelycke at 202-564-0764 or bonnelycke.nina@epa.gov. Information on the CAFO proposal public meetings and on the CAFO proposal in general is also available at http://www.epa.gov/owm/afos/rule.htm. The website has the text of the Federal Register announcement with the CAFO proposed rule and accompanying preamble, a factsheet describing the proposal, and other pertinent information. Key documents are also available through EPA's Water Resources Center (202-260-7786).

SUPPLEMENTARY INFORMATION:

Dates, Cities, Times and Addresses for Public Meetings

EPA is conducting eight public meetings on the CAFO proposed regulations as described in the following table:

Date | City | Time | Meeting address
March 1, 2001 | Baltimore, MD | 1 p.m.-5 p.m. | Baltimore Marriott, Inner Harbor, 110 South Eutaw Street.
March 7, 2001 | Ames, IA | 1:30 p.m.-5:30 p.m. | Benton Auditorium, Scheman Building, Iowa State Center, Elwood Drive.
March 13, 2001 | Riverside, CA | 1 p.m.-5 p.m. | Riverside Convention Center, Holiday Inn Select, 3400 Market Street.
March 15, 2001 | Ft. Wayne, IN | 1 p.m.-5 p.m. | Fort Wayne Hilton at the Convention Center, 120 South Calhoun Street.
March 20, 2001 | Dallas, TX | 1 p.m.-5 p.m. | Hotel Adolphus, 1321 Commerce Street.
March 22, 2001 | Chattanooga, TN | 1 p.m.-5 p.m. | Chattanooga Clarion Hotel, 47 Chestnut Street.
March 27, 2001 | Denver, CO | 1 p.m.-5 p.m. | Executive Tower Hotel, 1405 Curtis Street.
March 29, 2001 | Boise, ID | 1 p.m.-5 p.m. | The Grove Hotel, 245 South Capitol Blvd.

Prior to attending any of these public meetings, please confirm location information with EPA as indicated under FOR FURTHER INFORMATION CONTACT.

Please note that the purpose of these meetings is to enhance public understanding of the proposed regulations for CAFOs. The meetings are not a mechanism for submitting formal comments on the proposal, and formal comments should be submitted to the address provided in the ADDRESSES section above.

Background on CAFO Proposed Regulations

On December 15, 2000, EPA Administrator Browner signed the Agency's proposal to revise and update two regulations under the Clean Water Act (40 CFR parts 112 and 412) that address the water quality impacts of manure, wastewater, and other process waters generated by concentrated animal feeding operations (CAFOs). These two regulations are the National Pollutant Discharge Elimination System (NPDES) provisions that define which operations are CAFOs and establish permit requirements, and the Effluent Limitations Guidelines for feedlots (beef, dairy, swine and poultry subcategories), which establish the technology-based effluent discharge standards for CAFOs. EPA is proposing revisions to these regulations to address changes that have occurred in the animal industry sectors over the last 25 years, to clarify and improve implementation of CAFO permit requirements, and to improve the environmental protection achieved under these rules.

Environmental concerns being addressed by this rule include both ecological and human health effects. Manure from stockpiles, lagoons, or excessive land application can reach waterways through runoff, erosion, spills, or via groundwater. These discharges can result in excessive nutrients (nitrogen, phosphorus, and potassium), oxygen-depleting substances, and other pollutants in the water. This pollution can kill fish and shellfish, cause excess algae growth, harm marine mammals, and contaminate drinking water.

EPA is proposing to revise effluent guidelines applicable to beef, dairy, swine, and poultry operations that are defined as CAFOs, pursuant to the NPDES revisions. The proposed effluent guidelines include regulations for both new and existing animal feeding operations that meet the definition of a CAFO. The proposed effluent guidelines revisions do not alter the requirements for horses, ducks, sheep or lambs.

EPA published the proposed regulations in the Federal Register on January 12, 2001, at 66 FR 2959. The full text of the Federal Register announcement as well as a factsheet describing the proposed regulations are available as outlined above under FOR FURTHER INFORMATION CONTACT.

Dated: January 17, 2001.
Michael B. Cook,
Director, Office of Wastewater Management, Office of Water.

[FR Doc. 01-1976 Filed 1-29-01; 8:45 am]

BILLING CODE 6560-5-U